DEPARTMENT OF ENERGY

Climate Change Science Program Product Development Advisory Committee

AGENCY: Office of Science, Department of Energy

ACTION: Notice of open teleconference meeting.

SUMMARY: This notice announces a teleconference meeting of the Climate Change Science Program Product Development Advisory Committee. Federal Advisory Committee Act (Pub. L. 92-463, 86 Stat. 770) requires that public notice of these meetings be announced in the Federal Register.

DATES: Monday, January 28, 2008, 1 p.m. to 4 p.m. E.D.T.

ADDRESSES: Participants may call Ms. Karen Carlson-Brown at (301) 903-3338 to receive a call-in number by January 23, 2008. Public participation is welcomed; however, the number of teleconference lines is limited and available on a first come basis.

FOR FURTHER INFORMATION CONTACT: Dr. Anjuli S. Bamzai (301-903-0294; anjuli.bamzai@science.doe.gov) Designated Federal Officer, Climate Change Science Program Product Development Advisory Committee, U.S. Department of Energy, Office of Science, Office of Biological and Environmental Research, Climate Change Research Division, SC-23.3/Germantown Building, 1000 Independence Avenue, SW., Washington, DC 20585-1290. The most current information concerning this meeting can be found on the Web site: http://www.science.doe.gov/ober/cpdac/announcement.html.

SUPPLEMENTARY INFORMATION: Purpose of the Meeting: To continue discussions on drafting the Climate Change Science Program (CCSP) Synthesis and Assessment Product (SAP) related to climate modeling. This activity is being conducted at the request of the Department of Energy, in accordance with the CCSP Guidelines for Producing the CCSP Synthesis and Assessment Products.

Tentative Agenda:

• Discussion on how public review comments have been addressed by the SAP 3.1 author team in the current version of the report.

• Discussion on how comments from CPDAC members have been addressed by the SAP 3.1 author team in the current version of the report.

• Motion by Chair of CPDAC to seek concurrence on the draft SAP 3.1.

• Public comment (10 minute rule).

Public Participation: The teleconference meeting is open to the public. If you would like to file a written statement with the Committee, you may do so either before or after the meeting. If you would like to make oral statements regarding any of the items on the agenda, you should contact Anjuli Bamzai at the address or telephone number listed above. You must make your request for an oral statement at least five business days before the meeting. Reasonable provisions will be made to include the scheduled oral statements on the agenda. The Chairperson of the Committee will conduct the meeting to facilitate the orderly conduct of business. Public comment will follow the 10-minute rule.

Minutes: The minutes of this meeting will be available for public review at http://www.science.doe.gov/ober/CPDACminutes_presentations.html.

Issued in Washington, DC, on January 7, 2008.
Rachel Samuel,
Deputy Advisory Committee Management Officer.

[FR Doc. E8-347 Filed 1-10-08; 8:45 am]

BILLING CODE 6450-01-P